DEPARTMENT OF THE INTERIOR

National Park Service

[NPS-WASO-NAGPRA-12186; 2200-1100-665]

Notice of Inventory Completion: U.S. Department of Agriculture, Forest Service, Apache-Sitgreaves National Forests, Springerville, AZ, and the Field Museum of Natural History, Chicago, IL

AGENCY: National Park Service, Interior.

ACTION: Notice.

SUMMARY: The U.S. Department of Agriculture (USDA), Forest Service, Apache-Sitgreaves National Forests and the Field Museum of Natural History have completed an inventory of human remains in consultation with the appropriate Indian tribes, and have determined that there is a cultural affiliation between the human remains and present-day Indian tribes. Representatives of any Indian tribe that believes itself to be culturally affiliated with the human remains may contact the USDA Forest Service Southwestern Region. Repatriation of the human remains to the Indian tribes stated below may occur if no additional claimants come forward.

DATES: Representatives of any Indian tribe that believes it has a cultural affiliation with the human remains should contact the USDA Forest Service Southwestern Region at the address below by March 21, 2013.

ADDRESSES: Dr. Frank E. Wozniak, NAGPRA Coordinator, Southwestern Region, USDA Forest Service, 333 Broadway Blvd. SE., Albuquerque, NM 87102, telephone (505) 842-3238.

SUPPLEMENTARY INFORMATION: Notice is here given in accordance with the Native American Graves Protection and Repatriation Act (NAGPRA), 25 U.S.C. 3003, of the completion of an inventory of human remain under the control of the USDA, Forest Service, Apache-Sitgreaves National Forests, Springerville, AZ and in the custody of the Field Museum of Natural History, Chicago, IL. The human remains were removed from the Cosper Cliff Dwelling site, Greenlee County, AZ, a part of the Apache-Sitgreaves National Forests.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the USDA Apache-Sitgreaves National Forests professional staff in consultation with representatives of the Hopi Tribe of Arizona; Pueblo of Acoma, New Mexico; and the Zuni Tribe of the Zuni Reservation, New Mexico (hereinafter referred to as “The Tribes”).

History and description of the remains

In 1952, human remains representing, at minimum, one individual were removed by Dr. Paul Martin of the Field Museum of Natural History from Cosper Cliff Dwelling on the Apache-Sitgreaves National Forests, in Greenlee County, AZ. No known individual was identified. No associated funerary objects are present.

Based on material culture, architecture, and site organization, Cosper Cliff Dwelling has been identified as an Upland Mogollon site. Continuities of ethnographic materials, technology, and architecture indicate affiliation of Upland Mogollon sites with historic and present-day Puebloan cultures. Oral traditions presented by representatives of The Tribes support cultural affiliation with Upland Mogollon sites in this portion of east central Arizona.

Determinations made by the USDA, Forest Service, Apache-Sitgreaves National Forests

Officials of the USDA, Forest Service, Apache-Sitgreaves National Forests have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Representatives of any Indian tribe that believes itself to be culturally affiliated with the human remains should contact Dr. Frank E. Wozniak, NAGPRA Coordinator, Southwestern Region, USDA Forest Service, 333 Broadway Blvd. SE., Albuquerque, NM 87102, telephone (505) 842-3238 before March 21, 2013. Repatriation of the human remains to The Tribes may proceed after that date if no additional claimants come forward.

The USDA, Forest Service, Apache-Sitgreaves National Forests is responsible for notifying The Tribes that this notice has been published.

Dated: January 25, 2013.
Melanie O'Brien,
Acting Manager, National NAGPRA Program.

[FR Doc. 2013-03627 Filed 2-15-13; 8:45 am]

BILLING CODE 4312-50-P